DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 9, 2018.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on October 2, 2018.
Donald P. Burger,
Chief, General Approvals and Permits Branch.

Special Permits Data
Application No. | Applicant | Regulation(s) affected | Nature of the special permits thereof
10867-M | MEGGITT SAFETY SYSTEMS, INC | 173.302a(a) | To modify the special permit to update current revision letters of cylinder drawings. (modes 1,2,4,5).
11670-M | SCHLUMBERGER TECHNOLOGY CORP | 173.301(f), 173.302a, 173.201(c), 173.202(c), 173.203(c) | To modify the special permit to authorize manufacture, mark and sell of the approved packaging. (modes 1,2,3,4).
15507-M | YIWU JINYU MACHINERY FACTORY | 173.304(a), 173.304(d) | To modify the special permit to authorize additional hazmat and to allow an increase in burst pressures. (modes 1,2,3,4).
20292-M | NUANCE SYSTEMS LLC | 173.181, 173.302(a), 173.187, 173.201, 173.211 | To authorize a new design of the approved cylinders which will operate at higher temperatures and authorize additional new cylinders. (modes 1,2,3).
6769-M | CHEMOURS COMPANY FC LLC | 173.314, 173.315 | To modify the special permit to authorize additional tank cars as approved packaging. (modes 1,2).
10788-M | BEVIN BROS MANUFACTURING COMPANY | 173.302(a) | To modify the special permit to authorize brazing or welding of foot ring attachments to cylinders proceeding pressure testing. (modes 1,2,3,4,5).
11827-M | FUJIFILM ELECTRONIC MATERIALS U.S.A., INC | 180.605(c)(1), 180.352(b)(3) | To modify the special permit to authorize an additional hazardous material. (as authorized by the HMR).
11911-M | TRANSFER FLOW, INC | 177.834(h), 178.700(c)(1) | To modify the special permit to authorize addition of better sealing refueling caps. (mode 1).
11970-M | UNIVATION TECHNOLOGIES, LLC | 173.242 | To modify the special permit to authorize the pressure test being done pneumatically using nitrogen. (modes 1,2,3).
12124-M | W. R. GRACE & CO.—CONN | 173.242, 173.244 | To modify the special permit to authorize cargo vessel as an approved mode of transportation. modes 1,3).
13220-M | ENTEGRIS, INC | 173.302(a), 173.302c(a) | To modify the special permit to include drawings and specifications for cylinders that have regional markings (e.g. European and China Markings) necessary for export into these regions. (modes 1,2,3).
14424-M | CHART, INC | 172.301(c), 177.834(h) | To update the permit with the most current tank drawings. (mode 1).
20288-M | DEPARTMENT OF DEFENSE (MILITARY SURFACE DEPLOYMENT & DISTRIBUTION COMMAND) | 175.10(a)(18)(ii) | To modify the special permit to authorize civilian as well as military personnel to carry on 2 CUPS units. (mode 5).
20351-M | ROEDER CARTAGE COMPANY, INCORPORATED | 180.407(c), 180.407(c), 180.407(e), 180.407(f) | To modify the special permit to remove the requirement for periodic internal visual inspections and to authorize an additional tank dedicated to acetonitrile transportation. (mode 1).
20383-M | SACRAMENTO EXECUTIVE HELICOPTERS, INC | 172.101(j), 172.200, 172.301(c), 173.315(j)(1)(i) | To modify the special permit to authorize additional 2.1 and 2.2 hazmat items. (mode 4).

[FR Doc. 2018-22018 Filed 10-9-18; 8:45 am]

BILLING CODE 4909-60-P